DEPARTMENT OF LABOR

Employment and Training Administration

[TA-W-50,533]

Mastercraft Fabrics LLC, Joan Fabrics Corporation, Andrew Major Plant, Including Temporary Workers of Manpower, Personnel Services, Unlimited and Coxe Personnel, Spindale, NC; Amended Certification Regarding Eligibility To Apply for Worker Adjustment Assistance

In accordance with section 223 of the Trade Act of 1974 (19 U.S.C. 2273) the Department of Labor issued a Certification of Eligibility to Apply for Worker Adjustment Assistance on February 14, 2003, applicable to workers of Mastercraft Fabrics LLC, Andrew Major Plant, including temporary workers of Manpower, Personnel Services Unlimited and Coxe Personnel, Spindale, North Carolina. The notice was published in the Federal Register on March 10, 2003 (68 FR 11409).

At the request of the company, the Department reviewed the certification for workers of the subject firm. The workers are engaged in the production of jacquard furniture fabric.

New information shows that Joan Fabrics Corporation is the parent firm of Mastercraft Fabrics LLC, Andrew Major Plant. Workers separated from employment at the subject firm had their wages reported under a separate unemployment insurance (UI) tax accounts for Joan Fabrics Corporation.

Accordingly, the Department is amending the certification to properly reflect this matter.

The intent of the Department's certification is to include all workers of Mastercraft Fabrics LLC, Andrew Major Plant, including temporary workers of Manpower, Personnel Services Unlimited and Coxe Personnel, Spindale, North Carolina who were adversely affected by increased imports of jacquard furniture fabrics.

The amended notice applicable to TA-W-50,533 is hereby issued as follows:

All workers of Mastercraft Fabrics LLC, Joan Fabrics Corporation, Andrew Major Plant, including temporary workers of Manpower, Personnel Services Unlimited and Coxe Personnel, Spindale, North Carolina, who became totally or partially separated from employment on or after January 2, 2002, through February 14, 2005, are eligible to apply for adjustment assistance under section 223 of the Trade Act of 1974.

Signed at Washington, DC, this 15th day of June, 2004.
Richard Church,
Certifying Officer, Division of Trade Adjustment Assistance.

[FR Doc. 04-14920 Filed 6-30-04; 8:45 am]

BILLING CODE 4510-30-P